FEDERAL COMMUNICATIONS COMMISSION

[Report No. 2553]

Petitions for Reconsideration of Action in Rulemaking Proceedings

May 15, 2002.

Petitions for Reconsideration have been filed in the Commission's rulemaking proceedings listed in this Public Notice and published pursuant to 47 CFR 1.429(e). The full text of this document is available for viewing and copying in Room CY-A257, 445 12th Street, SW., Washington, DC or may be purchased from the Commission's copy contractor, Qualex International (202) 863-2893. Oppositions to these petitions must be filed by June 5, 2002. See Section 1.4(b)(1) of the Commission's rules (47 CFR 1.4(b)(1)). Replies to an opposition must be filed within 10 days after the time for filing oppositions has expired.

Subject: Implementation of the pay telephone reclassification and compensation provision's of the Telecommunications Act of 1996 (CC Docket No. 96-128), Amendment of FM Table of Allotments (MM Docket No. 01-120, RM-10126).

Number of Petitions Filed: 3.

Marlene H. Dortch,
Secretary.

[FR Doc. 02-12667 Filed 5-20-02; 8:45 am]

BILLING CODE 6712-01-M